UNITED STATES INSTITUTE OF PEACE

Notice Regarding Board of Directors Meetings

AGENCY: United States Institute of Peace (USIP) and Endowment of the United States Institute of Peace.

ACTION: Announcement of meeting.

SUMMARY: USIP announces the next meeting of the Board of Directors.

DATES: Friday, October 25, 2024 (9:00 a.m.).

The next meeting of the Board of Directors will be held January 24, 2025.

ADDRESSES: 2301 Constitution Avenue NW, Washington DC 20037.

FOR FURTHER INFORMATION CONTACT: Corinne Graff, 202-429-7895, cgraff@usip.org.

SUPPLEMENTARY INFORMATION: Open Session—Portions may be closed pursuant to subsection (c) of section 552b of title 5, United States Code, as provided in subsection 1706(h)(3) of the United States Institute of Peace Act, Public Law 98-525.

Authority: 22 U.S.C. 4605(h)(3).

Dated: October 7, 2024.
Rebecca Fernandes,
Director of Accounting.

[FR Doc. 2024-23563 Filed 10-10-24; 8:45 am]

BILLING CODE 2810-03-P